DEPARTMENT OF LABOR

Employment and Training Administration

Agency Information Collection Activities; Comment Request; Reemployment of Unemployment Insurance (UI) Benefit Recipients

ACTION: Notice.

SUMMARY: The Department of Labor (DOL), Employment and Training Administration (ETA) is soliciting comments concerning a proposed extension for the authority to conduct the information collection request (ICR) titled, “Reemployment of UI Benefit Recipients.” This comment request is part of continuing Departmental efforts to reduce paperwork and respondent burden in accordance with the Paperwork Reduction Act of 1995 (PRA).

DATES: Consideration will be given to all written comments received by May 15, 2017.

ADDRESSES: A copy of this ICR with applicable supporting documentation; including a description of the likely respondents, proposed frequency of response, and estimated total burden may be obtained free by contacting Valerie Rodall by telephone at 202-693-3194, TTY 1-877-889-5627 (these are not toll-free numbers), or by email at Rodall.Valerie.J@dol.gov.

Submit written comments about, or requests for a copy of, this ICR by mail or courier to the U.S. Department of Labor, Employment and Training Administration, Office of Unemployment Insurance, 200 Constitution Avenue NW., Room S-4519, Washington, DC 20210; by email at Rodall.Valerie.J@dol.gov; or by fax at 202-693-3975.

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Under the Government Performance and Results Act of 1993 (GPRA), the Department's Strategic Plan is an integral part of the budget process. Among the purposes of the GPRA are to improve Federal program effectiveness and public accountability by focusing on program results, service quality, and customer satisfaction.

Strategic Objective 4.1 in the Department's fiscal year (FY) 2014-2018 Strategic Plan is to provide income support when work is impossible or unavailable and facilitate return to work, which focuses on improving the operational performance and effectiveness of the Federal/state UI program. This goal is supported in part by the performance measure indicating the percentage of UI claimants reemployed by the end of the first quarter after the quarter in which they received their initial first UI benefit payment. ETA collects the data to measure the facilitation of reemployment of UI benefit recipients through the ETA 9047 report. OMB approved the Department's request to begin collecting UI reemployment data through the ETA 9047 report on July 26, 2005. This data collection was renewed in 2014 through September 30, 2017.

ETA has also included UI reemployment as a performance measure for UI Performs, the Department's performance management system for the UI program. Per UI Program Letter (UIPL) No. 17-08 (May 14, 2008), Acceptable Levels of Performance (ALP), the minimum performance criteria for UI Performs Core Measures are set annually for each state. The ALPs take into account a state's total unemployment rate and the percentage of UI claimants who are exempt from active work search or Employment Service (ES) registration requirements because they are job-attached. Analyses of the data indicate that UI reemployment is strongly related to these two factors.

Each calendar quarter, states report on the ETA 9047 report separate counts for individuals receiving their first UI payments who are exempt from active work search or ES registration requirements, in most cases because they are job-attached with definite recall dates, and those not exempt from active work search or ES registration requirements.

States also report on the ETA 9047 report the number of those first payment recipients for whom intrastate or out-of-state employers reported wages in the subsequent quarter. States obtain these counts by crossmatching the Social Security Numbers (SSNs) of claimants who received UI first payments with the UI wage records for the subsequent calendar quarter. ETA issued instructions on obtaining out-of-state reemployment data through matching the SSNs of UI first payment recipients with UI wage records in the National Directory of New Hires in UIPL No. 1-06, Change 1 (August 2, 2006).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention Reemployment of UI Benefit Recipient, OMB control number 1205-0452.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without changes.

Title of Collection: Reemployment of Unemployment Insurance Benefit Recipients.

Form: ETA 9047.

OMB Control Number: 1205-0452.

Affected Public: State Workforce Agencies (SWAs).

Estimated Number of Respondents: 53.

Frequency: Quarterly.

Total Estimated Annual Responses: 212.

Estimated Average Time per Response: 10 hours.

Estimated Total Annual Burden Hours: 2,120 hours.

Total Estimated Annual Other Cost Burden: $0.

Authority: 44 U.S.C. 3506(c)(2)(A).

Byron Zuidema,
Deputy Assistance Secretary for Employment and Training, Labor.

[FR Doc. 2017-05177 Filed 3-14-17; 8:45 am]

BILLING CODE 4510-FW-P